SMALL BUSINESS ADMINISTRATION

[Declaration of Economic Injury Disaster #9Z06]

Commonwealth of Massachusetts (and Contiguous Counties in New Hampshire and Rhode Island)

Barnstable, Essex, Norfolk, Plymouth and Suffolk Counties and the contiguous counties of Bristol, Middlesex, and Worcester in the Commonwealth of Massachusetts; Hillsborough and Rockingham Counties in the State of New Hampshire; and Providence in the State of Rhode Island constitute an economic injury disaster loan area as a result of a nor'easter storm that occurred on December 6-7, 2003. Eligible small businesses and small agricultural cooperatives without credit available elsewhere may file applications for economic injury assistance as a result of this disaster until the close of business on October 18, 2004, at the address listed below or other locally announced locations: Small Business Administration, Disaster Area 1 Office, 360 Rainbow Blvd, South 3rd Floor, Niagara Falls, NY 14303.

The interest rate for eligible small businesses and small agricultural cooperatives is 3.061 percent.

The numbers assigned for economic injury for this disaster are 9Z0600 for Massachusetts; 9Z0700 for New Hampshire; and 9Z0800 for Rhode Island.

(Catalog of Federal Domestic Assistance Program No. 59002)
Dated: January 16, 2004.
Hector V. Barreto,
Administrator.

[FR Doc. 04-1503 Filed 1-23-04; 8:45 am]

BILLING CODE 8025-01-P